DEPARTMENT OF COMMERCE

National Oceanic and Atmospheric Administration

[RTID 0648-XB342]

Pacific Fishery Management Council; Public Meetings

AGENCY: National Marine Fisheries Service (NMFS), National Oceanic and Atmospheric Administration (NOAA), Commerce.

ACTION: Notice of public meetings.

SUMMARY: The Pacific Fishery Management Council's (Pacific Council) and its advisory entities will hold online public meetings.

DATES: The Pacific Council and its advisory entities will meet online September 8-11 and 13-15, 2021, noting there will be no meetings held on Sunday, September 12, 2021. The Pacific Council meeting will begin on Thursday, September 9, 2021, at 8 a.m. Pacific Daylight Time (PDT), reconvening at 8 a.m. on Friday, September 10 through Saturday, September 11, 2021. The Council will reconvene Monday, September 13, through Wednesday, September 15. All meetings are open to the public, except for a Closed Session held from 8 a.m. to 10 a.m., Thursday, September 9, to address litigation and personnel matters. The Pacific Council will meet as late as necessary each day to complete its scheduled business.

ADDRESSES: Meetings of the Pacific Council and its advisory entities will be webinar only. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Chuck Tracy, Executive Director, Pacific Council; telephone: (503) 820-2415 or (866) 806-7204 toll-free, or access the Pacific Council website, www.pcouncil.org for the proposed agenda and meeting briefing materials.

SUPPLEMENTARY INFORMATION: The September 9-11 and 13-15, 2021 meeting of the Pacific Council will be streamed live on the internet. The broadcasts begin initially at 10 a.m. PDT Thursday, September 9, 2021, and continue at 8 a.m. Friday, September 10 through Wednesday, September 15, 2021, except no meetings are scheduled for Sunday, September 12. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.5, Proposed Council Meeting Agenda, and will be in the advance September 2021 briefing materials and posted on the Pacific Council website at www.pcouncil.org no later than Friday, August 20, 2021.

A. Call to Order

1. Opening Remarks

2. Council Member Appointments

3. Roll Call

4. Executive Director's Report

5. Approve Agenda

B. Open Comment Period

1. Comments on Non-Agenda Items

C. Groundfish Management

1. National Marine Fisheries Service Report

2. Stock Assessment Methodology Review

3. Pacific Whiting Utilization in the At-Sea Sectors

4. Electronic Monitoring—Final Action

5. Sablefish Gear Switching

6. Adopt Stock Assessments

7. Inseason Adjustments—Final Action

8. Initial Harvest Specifications and Management Measure Actions for 2023-24 Management

D. Highly Migratory Species Management

1. National Marine Fisheries Service Report

2. International Management Activities

3. Exempted Fishing Permits

E. Administrative Matters

1. Marine Planning

2. Fiscal Matters

3. Legislative Matters

4. Approval of Council Meeting Record

5. Standardized Bycatch Reporting Methodology

6. Membership Appointments and Council Operating Procedures

7. Future Council Meeting Agenda and Workload Planning

F. Salmon Management

1. National Marine Fisheries Service Report

2. Methodology Review—Final Topic Selection

3. Southern Oregon/Northern California Coast Coho Endangered Species Act Consultation

G. Pacific Halibut Management

1. 2022 Catch Sharing Plan and Annual Regulations

2. Commercial-Directed Fishery Regulations for 2022

H. Ecosystem Management

1. Fishery Ecosystem Plan Five-Year Review

2. Climate and Communities Initiative

I. Habitat Issues

1. Current Habitat Issues

Advisory Body Agendas

Advisory body agendas will include discussions of relevant issues that are on the Pacific Council agenda for this meeting and may also include issues that may be relevant to future Council meetings. Proposed advisory body agendas for this meeting will be available on the Pacific Council website www.pcouncil.org no later than Friday, August 20, 2021.

Schedule of Ancillary Meetings

Day 1—Wednesday, September 8, 2021

Coastal Pelagic Species Advisory Subpanel 8 a.m.

Enforcement Consultants 8 a.m.

Groundfish Advisory Subpanel 8 a.m.

Groundfish Management Team 8 a.m.

Habitat Committee 8 a.m.

Scientific and Statistical Committee 8 a.m.

Budget Committee 10 a.m.

Legislative Committee 1 p.m.

Day 2—Thursday, September 9, 2021

California State Delegation 7 a.m.

Oregon State Delegation 7 a.m.

Washington State Delegation 7 a.m.

Ecosystem Advisory Subpanel 8 a.m.

Groundfish Advisory Subpanel 8 a.m.

Groundfish Management Team 8 a.m.

Habitat Committee 8 a.m.

Highly Migratory Species Advisory Subpanel 8 a.m.

Highly Migratory Species Management Team 8 a.m.

Salmon Advisory Subpanel 8 a.m.

Scientific and Statistical Committee 8 a.m.

Enforcement Consultants As Necessary

Day 3—Friday, September 10, 2021

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Highly Migratory Species Advisory Subpanel 8 a.m.

Highly Migratory Species Management Team 8 a.m.

Salmon Advisory Subpanel 8 a.m.

Salmon Technical Team 8 a.m.

Enforcement Consultants As Necessary

Day 4—Saturday, September 11, 2021

California State Delegation 7 a.m.

Oregon State Delegation 7 a.m.

Washington State Delegation 7 a.m.

Groundfish Advisory Subpanel 8 a.m.

Highly Migratory Species Advisory Subpanel 8 a.m.

Highly Migratory Species Management Team 8 a.m.

Enforcement Consultants As Necessary

* No Meetings Scheduled for Sunday, September 12

Day 5—Monday, September 13, 2021

California State Delegation 7 a.m.

Oregon State Delegation 7 a.m.

Washington State Delegation 7 a.m.

Groundfish Advisory Subpanel 8 a.m.

Groundfish Management Team 8 a.m.

Highly Migratory Species Management Team 8 a.m.

Enforcement Consultants As Necessary

Day 6—Tuesday, September 14, 2021

California State Delegation 7 a.m.

Oregon State Delegation 7 a.m.

Washington State Delegation 7 a.m.

Groundfish Advisory Subpanel 8 a.m.

Groundfish Management Team 8 a.m.

Highly Migratory Species Management Team 8 a.m.

Enforcement Consultants As Necessary

Day 7—Wednesday, September 15, 2021

California State Delegation 7 a.m.

Oregon State Delegation 7 a.m.

Washington State Delegation 7 a.m.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: August 17, 2021.
Tracey L. Thompson,
Acting Deputy Director, Office of Sustainable Fisheries, National Marine Fisheries Service.

[FR Doc. 2021-17906 Filed 8-19-21; 8:45 am]

BILLING CODE 3510-22-P